ENVIRONMENTAL PROTECTION AGENCY

[ER-FRL-8594-3]

Environmental Impacts Statements; Notice of Availability

Responsible Agency: Office of Federal Activities, General Information (202) 564-1399 or http://www.epa.gov/compliance/nepa/.

Weekly receipt of Environmental Impact Statements

Filed 06/01/2009 Through 06/05/2009

Pursuant to 40 CFR 1506.9

EIS No. 20090183, Final EIS, NRC, PA, Generic—License Renewal of Nuclear Plants, Supplement 36 to NUREG-1437, Regarding Beaver Valley Power Station, Units 1 and 2, Plant-Specific, Issuing Nuclear Power Plant Operating License for an Additional 20-Year Period, PA, Wait Period Ends: 07/13/2009, Contact: Emmanuel Sayoc 301-415-2989

EIS No. 20090184, Final EIS, DOA, ID, Lakeview-Reeder Fuels Reduction Project, Proposed Fuels Reduction and Road Treatment Activities, Idaho Panhandle National Forests, Priest Lake Ranger District, Bonner County, ID, Wait Period Ends: 07/13/2009, Contact: David Cobb 208-443-6854

EIS No. 20090185, Final EIS, COE, 00, Programmatic—Oyster Restoration in Chesapeake Bay Including the Use of a Native and/or Nonnative Oyster, Implementation, Chesapeake Bay, MD and VA, Wait Period Ends: 07/13/2009, Contact: Craig Seltzer 757-201-7390

EIS No. 20090186, Final EIS, FRC, CA, South Feather Power Project, (Project No. 2099-068), Application to Relicense its 104-megawatt, South Fork Feather River, Lost Creek and Slate Creek, Butte, Yuba, and Plumas Counties, CA, Wait Period Ends: 07/13/2009, Contact: John Mudre 202-502-8902

EIS No. 20090187, Final EIS, CDG, 00, Programmatic—Future of the U.S. Coast Guard Long Range Aids to Navigation (LORAN-C) Program, Implementation,, Wait Period Ends: 07/13/2009, Contact: CDR Bob I. Feigenblatt 202-372-1558

Dated: June 9, 2009.
Robert W. Hargrove,
Director, NEPA Compliance Division, Office of Federal Activities.

[FR Doc. E9-13862 Filed 6-11-09; 8:45 am]

BILLING CODE 6560-50-P